ENVIRONMENTAL PROTECTION AGENCY

[EPA-HQ-OW-2011-0443; FRL 9935-83-OEI]

Information Collection Request Submitted to OMB for Review and Approval; Comment Request; Public Water System Supervision Program

AGENCY: Environmental Protection Agency (EPA).

ACTION: Notice.

SUMMARY: The U.S. Environmental Protection Agency (EPA) has submitted an Information Collection Request (ICR) for the Public Water System Supervision Program (EPA ICR No. 0270.46, OMB Control No. 2040-0090) to the Office of Management and Budget (OMB) for review and approval in accordance with the Paperwork Reduction Act (PRA; 44 U.S.C. 3501 et seq.). This is a proposed extension of the ICR, which is currently approved through October 31, 2015. Public comments were previously requested via the Federal Register (80 FR 17040) on March 31, 2015, during a 60-day comment period. This notice allows for an additional 30 days for public comments. A fuller description of the ICR is provided in this renewal notice, including its estimated burden and cost to the public. An Agency may not conduct or sponsor and a person is not required to respond to a collection of information unless it displays a currently valid OMB control number.

DATES: Additional comments may be submitted on or before November 27, 2015.

ADDRESSES: Submit your comments, referencing Docket ID Number EPA-HQ-OW-2011-0443, to (1) EPA online using www.regulations.gov (our preferred method), by email to OW-Docket@epa.gov or by mail to EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Kevin Roland, Drinking Water Protection Division, Office of Ground Water and Drinking Water, (4606M), Environmental Protection Agency, 1200 Pennsylvania Ave. NW., Washington, DC 20460; telephone number: 202-564-4588: fax number: 202-564-3755; email address: roland.kevin@epa.gov.

SUPPLEMENTARY INFORMATION: Supporting documents which explain in detail the information that EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Public Water System Supervision (PWSS) Program ICR examines public water systems, primacy agencies (i.e., states and tribes with primary enforcement authority) and tribal operator certification provider burden, and costs for “cross-cutting” recordkeeping and reporting requirements (i.e., the burden and costs for complying with drinking water information requirements that are not associated with contaminant-specific rulemakings). The following activities have recordkeeping and reporting requirements that are mandatory for compliance with 40 CFR parts 141 and 142: The Consumer Confidence Report Rule (CCR), the Variance and Exemption Rule (V/E Rule), General State Primacy Activities, the Public Notification Rule (PN) and Proficiency Testing Studies for Drinking Water Laboratories. The information collection activities for both the Operator Certification and the Capacity Development Program are driven by the grant withholding and reporting provisions under sections 1419 and 1420, respectively, of the Safe Drinking Water Act. The information collection for the Tribal Operator Certification Program is driven by grant eligibility requirements outlined in the Drinking Water Infrastructure Grant Tribal Set-Aside Program Final Guidelines and the Tribal Drinking Water Operator Certification Program Guidelines.

Form Numbers: None.

Respondents/affected entities: New and existing public water systems and primacy agencies.

Respondent's obligation to respond: Mandatory for compliance with 40 CFR parts 141 and 142.

Estimated number of respondents: 151,724 (total).

Frequency of response: Varies by requirement.

Total estimated burden: 3,769,213 hours (per year). Burden is defined at 5 CFR 1320.03(b)

Total estimated cost: $187,603,000 (per year), includes $42,103,000 in operation and maintenance costs.

Changes in the Estimates: There is a decrease of 344,195 hours in the total estimated respondent burden compared with the ICR currently approved by OMB. This decrease is a result of removing burden associated with variances, exemptions and constructed conveyances to reflect no new activity in these categories; updating relevant baseline information for each rule with the most current and accurate information available (e.g., public water system inventory); and, updating burden to incorporate the results of consultation with stakeholders. Where appropriate and available, estimated violation and other associated rates have also been updated to reflect current information on rule compliance.

Courtney Kerwin,
Acting Director, Collection Strategies Division.

[FR Doc. 2015-27311 Filed 10-26-15; 8:45 am]

BILLING CODE 6560-50-P